DEPARTMENT OF JUSTICE

[OMB Number 1122-0020]

Agency Information Collection Activities; Proposed eCollection eComments Requested; Extension of a Previously Approved Collection

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until January 31, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW) administers financial support and technical assistance to communities around the country that are creating programs, policies, and practices aimed at ending domestic violence, dating violence, sexual assault and stalking. Its mission is to provide national leadership to improve the Nation's response to these crimes through the implementation of the Violence Against Women Act of 1994 (VAWA) as amended and reauthorized in 2000, 2005, 2013 and 2022. OVW pursues this mission by supporting community efforts, enhancing education and training, disseminating best practices, launching special initiatives, and leading the Nation's efforts to end violence against women.

Currently, OVW administers discretionary grant programs and formula grant programs, all of which were established under VAWA and subsequent legislation. Since its inception in 1995, OVW has awarded billions in grant funding and cooperative agreements and has launched a multifaceted approach to implementing VAWA. These grant programs are designed to develop the nation's capacity to reduce domestic violence, dating violence, sexual assault, and stalking by strengthening services to victims and holding offenders accountable for their action. OVW posts notice of funding opportunities (NOFO) (previously referred to as solicitations), closes NOFO periods, performs initial internal reviews, conducts peer reviews, makes funding decisions and ultimately makes awards on a staggered basis by grant program according to a master calendar that ensures that grant awards are made in a timely manner in a specific fiscal year. The date of the posting of a NOFO is set by working backwards from the date that OVW is required to award grant funds.

OVW developed a NOFO template and an accompanying NOFO Guide to assist potential grantees in applying for current OVW programs. The NOFO template ensures that all applicants to OVW grant programs will be asked to provide uniform information in a consistent manner. The information addressed in the template includes: Application for Federal Assistance; Summary Data Sheet; Proposal Abstract; Summary of Other Federal Funding; Proposal Narrative; Budget Worksheet and Narrative; Memorandum of Understanding (MOU); Letter of Nonsupplanting; Financial Capability Questionnaire; and Indirect Cost Rate Agreement and additional items. Each NOFO is tailored to address the specific OVW grant program so that identification of eligible applicants, availability of funds, award period, award amount, program scope, activities that may compromise victim safety and recovery or undermine offender accountability and unallowable activities will be consistent with the statutory requirements and funding amounts authorized for each particular grant program.

The purpose of the NOFO template is to provide a framework to develop program-specific announcements soliciting applications for funding. A program NOFO outlines the specifics of the funding program; describes the requirements for eligibility; instructs an applicant on the necessary components of an application under a specific program (e.g. project activities and timeline, proposed budget): and provides registration dates, due dates, and instructions on how to apply within the designated application system.

Overview of This Information Collection

1. Type of Information Collection: Extension of a previously approved collection.

2. The Title of the Form/Collection: OVW Notice of Funding Opportunity Template.

3. The agency form number, if any, and the applicable component of the Department sponsoring the collection: 1122-0020.

4. Affected public who will be asked or required to respond, as well as the obligation to respond: The affected public includes applicants to OVW grant programs authorized under the Violence Against Women Act of 1994 as amended. These include States, territories, Tribes or units of local government, institutions of higher education including colleges and universities, Tribal organizations, Federal, State, Tribal, territorial or local courts or court-based programs, State sexual assault coalitions, State domestic violence coalitions; territorial domestic violence or sexual assault coalitions, Tribal coalitions, community-based organizations, and non-profit, nongovernmental organizations. The purpose of the NOFO template is to provide a framework to develop program-specific announcements soliciting applications for funding. A program NOFO outlines the specifics of the funding program; describes the requirements for eligibility; instructs an applicant on the necessary components of an application under a specific program (e.g., project activities and timeline, proposed budget): and provides registration dates, due dates, and instructions on how to apply within the designated application system.

5. An estimate of the total number of respondents and the amount of time estimated for an average respondent to respond: It is estimated that information will be collect annually from the approximately 1,800 respondents (applicants to the OVW grant programs). The public reporting burden for this collection of information is estimated at up to 30 hours per application. The 30-hour estimate is based on the amount of time to prepare a narrative, budget and other materials for the application and, if required, to coordinate with and develop a memorandum of understanding with requisite project partners.

6. An estimate of the total annual burden (in hours) associated with the collection: The total annual hour burden to complete the data collection forms is 54,000 hours, that is 1,800 applicants completing an application for funding which is estimated to take 30 hours.

7. The total annual hour burden to complete the data collection forms is 54,000 hours, that is 1,800 applicants completing a form twice a year with an estimated completion time for the form being 30 hours.

8. An estimate of the total annual cost burden associated with the collection, if applicable: The annualized costs to the Federal Government resulting from the OVW staff review of the progress reports submitted by grantees are estimated to be $201,600.

Total Burden Hours
Activity | Number of respondents | Frequency (semiannually) | Total annual responses | Time per response (hours) | Total annual burden (hours)
Progress Report Form | 1,800 | 2 | 1,800 | 30 | 54,000
Unduplicated Totals | 1,800 |  | 1,800 |  | 54,000

If additional information is required contact: Darwin Arceo, Department Clearance Officer, United States Department of Justice, Justice Management Division, Policy and Planning Staff, Two Constitution Square, 145 N Street NE, 4W-218, Washington, DC.

Dated: November 26, 2024.
Darwin Arceo,
Department Clearance Officer for PRA, U.S. Department of Justice.

[FR Doc. 2024-28175 Filed 11-29-24; 8:45 am]

BILLING CODE 4410-FX-P